FEDERAL MARITIME COMMISSION

Notice of Request for Additional Information

The Commission gives notice that it has requested that the parties to the below listed agreement provide additional information pursuant to section 6(d) of the Shipping Act of 1984, 46 U.S.C. app. 1705(d). The Commission has determined that further information is necessary to evaluate the proposed agreement modification. This action prevents the agreement modification from becoming effective as originally scheduled.

Agreement No.: 011453-004.

Title: Southern Africa/Oceania Agreement.

Parties: Safmarine Container Lines N.V.; Mediterranean Shipping Co., S.A.; and A.P. Moller-Maersk A/S.

By Order of the Federal Maritime Commission.
Dated: December 17, 2004.
Bryant L. VanBrakle,
Secretary.

[FR Doc. 04-28042 Filed 12-22-04; 8:45 am]

BILLING CODE 6730-01-P